ENVIRONMENTAL PROTECTION AGENCY

[FRL OP-OFA-087]

Environmental Impact Statements; Notice of Availability

Responsible Agency: Office of Federal Activities, General Information 202-564-5632 or https://www.epa.gov/nepa.

Weekly receipt of Environmental Impact Statements (EIS)

Filed September 11, 2023 10 a.m. EST Through September 18, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230122, Draft, FTA, WA, Operations and Maintenance Facility South NEPA Draft/SEPA Supplemental Draft, Environmental Impact Statement, Comment Period Ends: 11/06/2023, Contact: Justin Zweifel 206-220-7538.

EIS No. 20230123, Final, FERC, VA, Virginia Reliability Project and Commonwealth Energy Connector Project, Review Period Ends: 10/23/2023, Contact: Office of External Affairs 866-208-3372.

Amended Notice

EIS No. 20230098, Draft, NPS, MT, Yellowstone National Park Bison Management Plan Draft Environmental Impact Statement, Comment Period Ends: 10/10/2023, Contact: Morgan Warthin, Public Affairs Specialist, Yellowstone National Park 307-344-2010. Revision to FR Notice Published 08/11/2023; Extending the Comment Period from 09/25/2023 to 10/10/2023.

Dated: September 18, 2023.
Cindy S. Barger,
Director, NEPA Compliance Division, Office of Federal Activities.

[FR Doc. 2023-20591 Filed 9-21-23; 8:45 am]

BILLING CODE 6560-50-P